INTERNATIONAL TRADE COMMISSION

[Investigation No. TA-421-7]

Certain Passenger Vehicle and Light Truck Tires From the People's Republic of China

Determination

On the basis of information developed in the subject investigation, the United States International Trade Commission (Commission) determined, pursuant to section 421(b)(1) of the Trade Act of 1974,¹ that certain passenger vehicle and light truck tires ² from the People's Republic of China are being imported into the United States in such increased quantities or under such conditions as to cause or threaten to cause market disruption to the domestic producers of like or directly competitive products ¹ (74 FR 30321, June 25, 2009).

¹ Vice Chairman Daniel R. Pearson and Commissioner Deanna Tanner Okun made a negative determination.

² Vice Chairman Daniel R. Pearson and Commissioner Deanna Tanner Okun, having made a negative determination regarding market disruption, were not eligible to vote on a proposed remedy.

Recommendation on Proposed Remedy ²

Chairman Shara L. Aranoff and Commissioners Charlotte R. Lane, Irving A. Williamson, and Dean A. Pinkert propose that the President, for a three-year period, impose a duty, in addition to the current rate of duty, on imports of certain passenger vehicle and light truck tires from China as follows: 55 percent ad valorem in the first year, 45 percent ad valorem in the second year, and 35 percent ad valorem in the third year. They further propose that, if applications are filed, the President direct the U.S. Department of Labor and the U.S. Department of Commerce to provide expedited consideration of Trade Adjustment Assistance for firms and/or workers that are affected by subject imports.

Background

The Commission instituted this investigation effective April 24, 2009 following receipt of a petition filed by the United Steel, Paper and Forestry, Rubber, Manufacturing, Energy, Allied Industrial and Service Workers International Union, Pittsburgh, PA. Notice of the institution of the Commission's investigation and of the scheduling of a public hearing to be held in connection therewith was given by posting a copy of the notice on the Commission's Web site (http://www.usitc.gov) and by publishing the notice in the Federal Register of April 29, 2009 (74 FR 19593). The hearing was held on June 2, 2009 in Washington, DC; all persons who requested the opportunity were permitted to appear in person or by counsel.

The views of the Commission are contained in USITC Publication 4085 (July 2009), entitled Certain Passenger Vehicle and Light Truck Tires from China: Investigation No. TA-421-7.

Issued: July 9, 2009.
By order of the Commission.
Marilyn R. Abbott,
Secretary to the Commission.

[FR Doc. E9-16749 Filed 7-14-09; 8:45 am]

BILLING CODE 7020-02-P